DEPARTMENT OF COMMERCE

International Trade Administration

[C-580-913, C-821-834]

Oil Country Tubular Goods From the Republic of Korea and the Russian Federation: Postponement of Preliminary Determinations in the Countervailing Duty Investigations

AGENCY: Enforcement and Compliance, International Trade Administration, Department of Commerce.

DATES: Applicable November 30, 2021.

FOR FURTHER INFORMATION CONTACT: Paul Litwin (Republic of Korea (Korea)) and Theodore Pearson (Russian Federation (Russia)), AD/CVD Operations, Enforcement and Compliance, International Trade Administration, U.S. Department of Commerce, 1401 Constitution Avenue NW, Washington, DC 20230; telephone: (202) 482-6002 and (202) 482-2631, respectively.

SUPPLEMENTARY INFORMATION:

Background

On October 26, 2021, the Department of Commerce (Commerce) initiated countervailing duty (CVD) investigations of imports of oil country tubular goods (OCTG) from Korea and Russia.¹ Currently, the preliminary determinations are due no later than December 30, 2021.

¹ See Oil Country Tubular Goods from the Republic of Korea and the Russian Federation: Initiation of Countervailing Duty Investigations, 86 FR 60210 (November 1, 2021) (Initiation Notice).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are Bomsan Mannesmann Pipe U.S., Inc.; PTC Liberty Tubulars LLC; U.S. Steel Tubular Products, Inc.; the United Steel, Paper and Forestry, Rubber, Manufacturing, Energy, Allied Industrial and Service Workers International Union, AFL-CIO, CLC; and Welded Tube USA, Inc.

On November 15, 2021, the petitioners submitted timely requests that Commerce postpone the preliminary CVD determinations.³ The petitioners stated that they request postponement because “{t}he current deadline is not realistic for several reasons, including, most importantly, the fact that Commerce has not yet received any questionnaire responses.” ⁴ In accordance with 19 CFR 351.205(e), the petitioners have stated the reasons for requesting a postponement of the preliminary determination, and Commerce finds no compelling reason to deny the request. Therefore, in accordance with section 703(c)(1)(A) of the Act, Commerce is postponing the deadline for the preliminary determinations to no later than 130 days after the date on which these investigations were initiated, i.e., March 7, 2022.⁵ Pursuant to section 705(a)(1) of the Act and 19 CFR 351.210(b)(1), the deadline for the final determinations of these investigations will continue to be 75 days after the date of the preliminary determinations.

³ See Petitioners' Letter, “Oil Country Tubular Goods from the Republic of Korea: Request to Extend the Preliminary Determination,” dated November 15, 2021; see also Petitioners' Letter, “Oil Country Tubular Goods from the Russian Federation: Request to Extend the Preliminary Determination,” dated November 15, 2021.

⁴ Id.

⁵ Postponing the preliminary determination to 130 days after initiation would place the deadline on Saturday, March 5, 2022. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: November 23, 2021.
James Maeder,
Deputy Assistant Secretary for Antidumping and Countervailing Duty Operations.

[FR Doc. 2021-26025 Filed 11-29-21; 8:45 am]

BILLING CODE 3510-DS-P